DEPARTMENT OF TRANSPORTATION

Office of the Secretary

Aviation Proceedings, Agreements Filed the Week Ending May 23, 2003

The following Agreements were filed with the Department of Transportation under the provisions of 49 U.S.C. 412 and 414. Answers may be filed within 21 days after the filing of the application.

Docket Number: OST-2003-15273.

Date Filed: May 23, 2003.

Parties: Members of the International Air Transport Association.

Subject:

PTC2 EUR 0519 dated 16 May 2003

Within Europe Expedited Resolutions 002bi, 078y r1-r2.

PTC2 EUR 0522 dated 23 May 2003

Within Europe Expedited Resolutions r3-r-19.

PTC2 EUR 0523 dated 23 May 2003

Within Europe Expedited Resolution 002bn r20.

PTC2 EUR 0524 dated 23 May 2003

Within Europe Expedited Resolution 002bt r21.

PTC2 EUR 0525 dated 23 May 2003

Within Europe Expedited Resolution 002br r22.

PTC2 EUR 0526 dated 23 May 2003

Within Europe Expedited Resolution 002bs r23.

Minutes—PTC2 EUR 0521 dated 23 May 2003.

Intended effective date: 15 June, 1 July, 1 August, 1 September, 1 October, 1 November 2003.

Dorothy Y. Beard,
Chief, Docket Operations & Media Management, Federal Register Liaison.

[FR Doc. 03-14026 Filed 6-3-03; 8:45 am]

BILLING CODE 4910-62-P